DEPARTMENT OF THE INTERIOR

Bureau of Ocean Energy Management, Regulation and Enforcement

Notice on Outer Continental Shelf Oil and Gas Lease Sales

AGENCY: Bureau of Ocean Energy Management, Regulation and Enforcement, Interior.

ACTION: List of Restricted Joint Bidders; Correction.

SUMMARY: The Bureau of Ocean Energy Management, Regulation and Enforcement published a notice in the Federal Register on February 9, 2011, entitled: “List of Restricted Joint Bidders” that contained an error. We are correcting the name of an oil company listed under Group VIII in that notice.

FOR FURTHER INFORMATION CONTACT: Samuel T. Cable, 703-787-1322.

Correction

In the Federal Register of February 9, 2011, in FR Doc. 2011-2791, on page 7230, in the first column, correct the third line in the Group VIII section to read:

Statoil USA E&P Inc.

Dated: March 3, 2011.
Robert P. LaBelle,
Associate Director for Offshore Energy and Minerals Management.

[FR Doc. 2011-5408 Filed 3-9-11; 8:45 am]

BILLING CODE 4310-MR-P